DEPARTMENT OF HEALTH AND HUMAN SERVICES

Centers for Disease Control and Prevention

[30Day-26-1163]

Agency Forms Undergoing Paperwork Reduction Act Review

In accordance with the Paperwork Reduction Act of 1995, the Centers for Disease Control and Prevention (CDC) has submitted the information collection request titled “CDC Fellowship Programs Assessment” to the Office of Management and Budget (OMB) for review and approval. CDC previously published a “Proposed Data Collection Submitted for Public Comment and Recommendations” notice on October 2, 2025 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

CDC Fellowship Programs Assessments (OMB Control No. 0920-1163, Exp. 2/28/2026)—Revision—National Center for State, Tribal, Local, and Territorial Public Health Infrastructure and Workforce (NCSTLTPHIW), Centers for Disease Control and Prevention (CDC).

Background and Brief Description

CDC's mission is to protect America from health, safety, and security threats, both foreign and in the U.S. To ensure a competent, sustainable, and empowered public health workforce prepared to meet these challenges, CDC plays a key role in developing, implementing, and managing a number of fellowship programs. A fellowship is defined as a training or work experience lasting at least one month and consisting of primarily experiential (i.e., on-the-job) learning, in which the trainee has a designated mentor or supervisor. CDC fellowships are intended to develop public health professionals, enhance the public health workforce, and strengthen collaborations with partners in public health and healthcare organizations, academia, and other stakeholders in governmental and non-governmental organizations. Assessing fellowship activities is essential to ensure that these programs are optimized and that the public health workforce is equipped to promote and protect the public's health.

CDC requests a three-year Revision of a Generic Clearance to collect data about its fellowship programs. Data collections will allow for ongoing, collaborative, and actionable communications between CDC fellowship programs and interest holders (e.g., fellows, supervisors/mentors, alumni). Intended use of the resulting information is to:

• guide planning, implementation, and continuous quality improvement of fellowship activities and services;

• improve efficiencies in the delivery of fellowship activities and services; and

• determine to what extent fellowship activities and services are achieving established goals.

Collection and use of information about CDC fellowship activities will help ensure effective, efficient, and satisfying experiences among fellowship program participants and interest holders.

CDC estimates that annually, a subset of CDC's various fellowship programs will conduct one query each with one of the three respondent groups: (1) fellowship applicants or fellows; (2) mentors, supervisors, or employers; and (3) alumni. These collections might include short surveys, interviews, and focus groups. CDC will submit a project-specific information collection request (“GENIC”) to OMB for each activity to be conducted under this Generic Clearance. Each GENIC submission will include the information collection instrument(s) associated with the project and a completed “GENIC Request Template” which describes the project's data collection methods, respondent population(s), and the intended uses of the information to be collected.

In this Revision, CDC is revising the estimated number of responses and the estimated burden hours. Lower than anticipated usage for the active approval period and organizational changes at CDC support the request to reduce these estimates. Over the last approval period average response times were typically lower for modules targeting alumni respondents. In this Revision, average burden per response for alumni has accordingly been reduced from 30 minutes per response to 20 minutes per response.

In addition, CDC is standardizing the title of the Generic Clearance as “CDC Fellowship Programs Assessment.” This title is used on the GENIC Request Template associated with the generic and has been used on previous Supporting Statement documents. The title Data Collection for CDC Fellowship Programs has also been associated with OMB Control No. 0920-1163. For clarity, CDC will amend all documentation and consistently use the title “CDC Fellowship Programs Assessment.” No other changes are requested. OMB approval is requested for three years. The total estimated annualized number of responses is reduced from 3,091 to 1,225, and the total estimated annualized burden hours are reduced from 1,546 to 550. There are no costs to respondents other than their time.

Estimated Annualized Burden Hours
Type of respondents | Form name | Number of respondents | Number of responses per respondent | Average burden per response (in hours)
Applicants or fellows | Fellowship Data Collection Instrument | 750 | 1 | 30/60
Mentors, supervisors, or employers | Fellowship Data Collection Instrument | 100 | 1 | 30/60
Alumni | Fellowship Data Collection Instrument | 375 | 1 | 20/60

Jeffrey M. Zirger,
Lead, Information Collection Review Office, Office of Public Health Ethics and Regulations, Office of Science, Centers for Disease Control and Prevention.

[FR Doc. 2026-02182 Filed 2-2-26; 8:45 am]

BILLING CODE 4163-18-P